DEPARTMENT OF THE TREASURY

Submission for OMB Review; Comment Request

January 25, 2016.

The Department of the Treasury will submit the following information collection request to the Office of Management and Budget (OMB) for review and clearance in accordance with the Paperwork Reduction Act of 1995, Public Law 104-13, on or after the date of publication of this notice.

DATES: Comments should be received on or before March 28, 2016 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

SUPPLEMENTARY INFORMATION:

Alcohol and Tobacco Tax and Trade Bureau (TTB)

OMB Control Number: 1513-0074.

Type of Review: Extension of a currently approved collection.

Title: Airlines Withdrawing Stock from Customs Custody (TTB REC 5620/2).

Abstract: Airlines may withdraw, without payment of tax, distilled spirits and wine from their stocks held in customs custody at airports for use as supplies on aircraft engaged in foreign flights. Accounting for withdrawals of such products is necessary to protect the revenue by detecting and preventing diversion of the products into the domestic market. The required record shows, among other things, the amount of spirits and wine withdrawn, flight identification, and Customs certification. 27 CFR 28.280, 27 CFR 28.281.

Affected Public: Businesses or other for-profits.

Estimated Average Annual Burden per Response: 100 hours.

Estimated Total Annual Burden Hours: 2,500.

Brenda Simms,
Treasury PRA Clearance Officer.

[FR Doc. 2016-01687 Filed 1-27-16; 8:45 am]

BILLING CODE 4810-31-P